DEPARTMENT OF COMMERCE

National Oceanic and Atmospheric Administration

Notice of Intent to Prepare a Joint Environmental Impact Statement / Environmental Impact Report for the Proposed Relocation of the National Oceanic and Atmospheric Administration's Southwest Fisheries Science Center located in La Jolla, California

AGENCY: National Oceanic and Atmospheric Administration (NOAA), Commerce.

ACTION: Notice of Intent to prepare a joint National Environmental Policy Act (NEPA) Environmental Impact Statement (EIS) and California Environmental Quality Act (CEQA) Environmental Impact Report (EIR); request for comments.

SUMMARY: NOAA announces its intent to prepare a joint EIS/EIR to analyze the environmental impacts of relocating its Southwest Fisheries Science Center (SWFSC) near the Scripps Institution of Oceanography (SIO) within the University of California at San Diego (UCSD) campus in La Jolla, California.

Publication of this notice is to request public participation during preparation of the EIS/EIR to help determine the scope of environmental issues and range of alternatives to be addressed, and to provide information as to how to participate.

DATES: A public scoping meeting will held on the following date:Wednesday, February 20, 2008 - 5 p.m. tour of SWFSC and 6 p.m. meeting start time, SWFSC Lab, Building A, Large Conference Room, 8604 La Jolla Shores Drive, La Jolla, CA 92037.

FOR FURTHER INFORMATION CONTACT: Anne Elston, Environmental Research Analyst, SRI International, 333 Ravenswood Avenue, G 234, Menlo Park, CA 94025-3493; e-mai anne.elston@sri.com

SUPPLEMENTARY INFORMATION: The National Marine Fisheries Service (NMFS) is responsible for the management, conservation, and protection of living marine resources within the U.S. Exclusive Economic Zone. The SWFSC in La Jolla, California, manages and conducts research involving Pacific fisheries and marine mammal research for the protection and management of these resources throughout the Western Pacific and the Antarctic. The existing SWFSC facility, built in 1964, is currently adjacent to a coastal bluff that is undergoing severe erosion and retreat. NOAA proposes to construct a new SWFSC building to replace its existing NMFS administrative and marine research facilities currently located in La Jolla, California. A minimum of two existing at risk SWFSC structures would be removed and the property currently used by NOAA would be returned to the UCSD for other appropriate uses.

NOAA is the lead Federal agency for implementation of the NEPA. The University of California is the lead agency under the CEQA. The existing and preferred sites for the SWFSC headquarters are at the UCSD campus. The NMFS, SIO and other marine research organizations conduct independent and joint research at the SWFSC and its salt water laboratory facilities.

The proposed project will require construction of a new facility to support SWFSC administrative and marine research operations. The preferred site will enable NMFS, SIO, and others to continue collaboration within a wide range of programmatic marine research disciplines. NOAA, in cooperation with UCSD, has decided to prepare a joint EIS/EIR to analyze the environmental impacts of relocating the SWFSC facilities at UCSD.

Other alternative actions considered are:

Use of other NOAA facility locations in California and other Pacific Coast states;

Use of alternative sites at or adjacent to SIO for collaborative research; and

Use of existing alternative NOAA facilities and properties away from UCSD.

This joint EIS/EIR will analyze environmental impacts that may result from construction and/or operation of the proposed facilities. These potential environmental issues to be addressed include: land use and coastal zone management; aesthetics; geology; hydrology and water resources; biological resources and protected species; utilities and public services; transportation and traffic circulation, recreational resources; air quality; noise and vibration; visual effects and aesthetics; cultural resources; and socioeconomics and land use; and cumulative effects.

The most salient and foreseeable environmental topics of greatest interest are expected to be aesthetics, transportation and traffic, hydrology, and short term noise effects.

Interested parties who wish to submit suggestions or comments regarding the scope or content on the proposed EIS/EIR are invited to attend the public scoping meeting.

Dated: February 6, 2008.
William F. Broglie,
Chief Administrative Officer, National Oceanic and Atmospheric Administration.

[FR Doc. E8-2457 Filed 2-8-08; 8:45 am]

BILLING CODE 3510-12-S